FEDERAL ELECTION COMMISSION

Sunshine Act Meeting

AGENCY: Federal Election Commission

DATE & TIME: Tuesday, April 17, 2001 at 10:00 A.M.

PLACE: 999 E Street, NW., Washington, DC.

STATUS: This meeting will be closed to the public.

ITEMS TO BE DISCUSSED: • Compliance matters pursuant to 2 U.S.C. 437g.

• Audits conducted pursuant to 2 U.S.C. 437g. 438(b), and Title 26, U.S.C.

• Matters concerning participation in civil actions or proceedings or arbitration.

• Internal personnel rules and procedures or matters affecting a particular employee.

DATE & TIME: Thursday, April 19, 2001 at 10:00 A.M.

PLACE: 999 E Street, NW., Washington, DC (ninth floor).

STATUS: This meeting will be open to the public.

ITEMS TO BE DISCUSSED: • Correction and Approval of Minutes.

• Advisory Opinion 2001-04: Morgan Stanley Dean Witter & Co Political Action Committee by counsel, Kenneth A. Gross.

• Announcement of Effective Date for Rules on General Public Political Communications /Coordinated with Candidates and Party Committees and Independent Expenditures. (Tenative)

• Administrative Matters.

PERSON TO CONTACT FOR INFORMATION: Mr. Ron Harris, Press Officer, Telephone: (202) 694-1220.

Mary W. Dove,
Acting Secretary of the Commission.

[FR Doc. 01-9125 Filed 4-9-01; 3:26 pm]

BILLING CODE 6715-01-M